DEPARTMENT OF LABOR

Employment and Training Administration

[TA-W-85,844]

A Schulman, Inc. Including Workers Whose Wages Are Reported Under Ferro Corp. Stryker, Ohio; Amended Certification Regarding Eligibility To Apply for Worker Adjustment Assistance

In accordance with Section 223 of the Trade Act of 1974, as amended (“Act”), 19 U.S.C. 2273, the Department of Labor issued a Certification of Eligibility to Apply for Worker Adjustment Assistance on March 18, 2015, applicable to workers from A Schulman, Inc., Stryker, Ohio. The Department's Notice of Determination was published in the Federal Register on April 13, 2015 (80 FR 19691).

At the request of a State Workforce Official, the Department reviewed the certification for workers of the subject firm. The workers were engaged in the production of plastic colorants.

The investigation confirmed that workers' wages were reported under Ferro Corp., FEIN 34-0217820. Based on these findings, the Department is amending this certification to include workers whose wages were reported under Ferro Corp., FEIN 34-0217820.

The amended notice applicable to TA-W-85,844 is hereby issued as follows:

All workers of A Schulman, Inc., including workers whose wages were reported under Ferro Corp., Stryker, Ohio, who became totally or partially separated from employment on or after February 19, 2014 through March 18, 2017, are eligible to apply for adjustment assistance under Chapter 2 of Title II of the Trade Act of 1974, as amended, and are also eligible to apply for alternative trade adjustment assistance under Section 246 of the Trade Act of 1974, as amended.

Signed in Washington, DC, this 16th day of April, 2015.
Michael W. Jaffe,
Certifying Officer, Office of Trade Adjustment Assistance.

[FR Doc. 2015-12880 Filed 5-27-15; 8:45 am]

BILLING CODE 4510-FN-P